DEPARTMENT OF HEALTH AND HUMAN SERVICES

Health Resources and Services Administration

Administration for Children and Families

Advisory Committee on the Maternal, Infant and Early Childhood Home Visiting Program Evaluation; Notice of Meeting

In accordance with section 10(a)(2) of the Federal Advisory Committee Act (Pub. L. 92-463, 5 U.S.C. appendix 2), notice is hereby given of the following meeting:

Name: Advisory Committee on the Maternal, Infant and Early Childhood Home Visiting (MIECHV) Program Evaluation.

Date and Time: Thursday, May 5, 2011: 9 a.m.-5:15 p.m. EST. Friday, May 6, 2011: 9 a.m.-2:15 p.m. EST.

Place: Hilton Alexandria Old Town, 1767 King Street, Alexandria, Virginia 22314. (703) 837-0440.

This notice announces a forthcoming meeting of a public advisory committee of the Health Resources and Services Administration and the Administration for Children and Families. The meeting will be open to the public. This notice is being published less than 15 days prior to the meeting due to difficulties in securing adequate and accessible space to accommodate the public.

Meeting Registration: To register for the meeting, the public can contact Carolyn Swaney at cswaney@icfi.com.

Agenda: The purpose of this meeting is to gather comments from the Committee on the design of the MIECHV program evaluation. Topics to be discussed include an overview of the impact and implementation study designs, sampling design, analysis of state needs assessments, and cost effectiveness study.

Public Comments: The public can submit comments for the Committee on the design of the national evaluation of the home visiting program to Carlos Cano, Health Resources and Services Administration, at ccano@hrsa.gov. Comments should be submitted by May 2, 2011.

Special Accommodations: Individuals who plan to attend and need special assistance, such as sign language interpretation or other reasonable accommodations, should notify the contact person listed above at least 10 days prior to the meeting.

For Further Information Contact: T'Pring Westbrook, Administration for Children and Families, tpring.westbrook@acf.hhs.gov.

Supplementary Information: The Advisory Committee on the Maternal, Infant and Early Childhood Home Visiting Program Evaluation is authorized by subsection 511(g)(1) of Title V of the Social Security Act (42 U.S.C. 701 et seq.) as amended by section 2951 of the Patient Protection and Affordable Care Act of 2010 (Pub. L. 111-148) (the Affordable Care Act). The purpose of the Committee is to advise the Secretary of Health and Human Services on the design, plan, progress, and findings of the evaluation required for the home visiting program under the Affordable Care Act. More specifically, the Committee is to review, and make recommendations on, the design and plan for this evaluation; maintain and advise the Secretary regarding the progress of the evaluation; and comment, if the Committee so desires, on the report submitted to Congress under subsection 511(g)(3) of Title V.

Under a government contract, the MDRC, formerly known as Manpower Demonstration Research Corporation, a nonprofit, nonpartisan education and social policy research organization, developed the design options for the evaluation of the home visiting program. These study design options for this national evaluation will be formally presented to the Committee for review. As specified in the legislation, the evaluation will provide a state-by-state analysis of the needs assessments and the States' actions in response to the assessments. Additionally, as specified in the legislation, the evaluation will provide an assessment of: (a) The effect of early childhood home visiting programs on outcomes for parents, children, and communities with respect to domains specified in the Affordable Care Act (such as maternal and child health status, school readiness, and domestic violence, among others); (b) the effectiveness of such programs on different populations, including the extent to which the ability to improve participant outcomes varies across programs and populations; and (c) the potential for the activities conducted under such programs, if scaled broadly, to enhance health care practices, eliminate health disparities, improve health care system quality, and reduce costs.

Dated: April 18, 2011.
Mary K. Wakefield,
Administrator, Health Resources and Services Administration.
Dated: April 18, 2011.
Joan Lombardi,
Deputy Assistant Secretary and Inter-Departmental Liaison for Early Childhood Development, Administration for Children and Families.

[FR Doc. 2011-9756 Filed 4-21-11; 8:45 am]

BILLING CODE 4165-15-P